DEPARTMENT OF ENERGY

Federal Energy Regulatory Commission

[Docket No. AD21-10-000]

Modernizing Electricity Market Design; Notice of Technical Conferences Regarding Energy and Ancillary Services Markets

Take notice that the Federal Energy Regulatory Commission (Commission) will convene two staff-led technical conferences regarding energy and ancillary services markets administered by Regional Transmission Organizations and Independent System Operators in the above-captioned proceeding. The technical conferences will discuss potential energy and ancillary services market reforms, such as market reforms to increase operational flexibility, that may be needed as the resource fleet and load profiles change over time.

The first technical conference will be held on Tuesday, September 14, 2021, from approximately 9:00 a.m. to 5:00 p.m. Eastern Time. The second technical conference will be held on Tuesday, October 12, 2021, from approximately 9:00 a.m. to 5:00 p.m. Eastern Time.

The technical conferences will be held remotely via WebEx and will be open to the public. Registration for the conference is not required and there is no fee for attendance. An additional supplemental notice will be issued with further details regarding the technical conference agenda, as well as any changes in timing or logistics. Information will also be posted on the Calendar of Events on the Commission's website, www.ferc.gov, prior to the event.

The conference will be transcribed. Transcripts will be available for a fee from Ace Reporting, (202) 347-3700.

Commission conferences are accessible under section 508 of the Rehabilitation Act of 1973. For accessibility accommodations, please send an email to accessibility@ferc.gov, call toll-free (866) 208-3372 (voice) or (202) 208-8659 (TTY), or send a fax to (202) 208-2106 with the required accommodations. This notice is issued and published in accordance with 18 CFR 2.1.

For more information about this technical conference, please contact Emma Nicholson at emma.nicholson@ferc.gov or (202) 502-8741. For legal information, please contact Adam Eldean at adam.eldean@ferc.gov or (202) 502-8047. For information related to logistics, please contact Sarah McKinley at sarah.mckinley@ferc.gov or (202) 502-8368.

Dated: July 14, 2021.
Kimberly D. Bose,
Secretary.

[FR Doc. 2021-15403 Filed 7-19-21; 8:45 am]

BILLING CODE 6717-01-P